FEDERAL COMMUNICATIONS COMMISSION

47 CFR Part 64

[WC Docket No. 12-375; DA 13-2379]

Rates for Interstate Inmate Calling Services

AGENCY: Federal Communications Commission.

ACTION: Proposed rule; extension of comment period.

SUMMARY: In this document, the Wireline Competition Bureau grants in part the Motion for Extension of Time to File Comments and Reply Comments filed on December 6, 2013 by the Ohio Department of Rehabilitation and Correction in WC Docket No. 12-375. Specifically, the Bureau agreed that a modest extension of time will facilitate a more complete record in this proceeding.

DATES: Comments are due on or before December 20, 2013; reply comments are due on or before January 13, 2014.

ADDRESSES: You may submit comments, identified by WC Docket No. 12-375, by any of the following methods:

• Federal Communications Commission's Web site: http://fjallfoss.fcc.gov/ecfs2/. Follow the instructions for submitting comments.

• Mail: Commercial overnight mail (other than U.S. Postal Service Express Mail and Priority Mail) must be sent to 9300 East Hampton Drive, Capitol Heights, MD 20743.

• U.S. Postal Service first-class, Express, and Priority mail must be addressed to 445 12th Street SW., Washington, DC 20554.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Lynne Engledow, Wireline Competition Bureau, Pricing Policy Division, (202) 418-1520 or lynne.engledow@fcc.gov.

SUPPLEMENTARY INFORMATION: This is a summary of the Commission's Order, in WC Docket No. 12-375, DA 13-2379, adopted and released December 12, 2013. The complete text of this document is available for public inspection during regular business hours in the FCC Reference Information Center, Room CY-A257, 445 12th Street SW., Washington, DC 20554. It is also available on the Commission's Web site at http://www.fcc.gov.

1. On September 26, 2013, the Federal Communications Commission (Commission) released the Inmate Calling Report and Order and Further Notice of Proposed Rulemaking (R&O and FNPRM). See 78 FR 68005, November 13, 2013. In that item, the Commission adopted reforms of interstate inmate calling service rates, requiring that all providers' rates and charges be cost-based. In the FNPRM portion of the item, the Commission sought comment on a number of outstanding issues. The FNPRM set dates for comments and reply comments as December 13 and December 30, 2013 respectively.

2. The Ohio DRC requests that parties be allowed an extension of time to file comments to those questions raised in the FNPRM portion of the item: January 13, 2014 for initial comments and until February 12, 2014 for reply comments. The Ohio DRC asserts that an additional grant of time would allow for “a more complete factual and legal record in this proceeding.” Three parties filed comments in support of the Ohio DRC motion, and none opposed it.

3. Section 1.46 of the Commission's rules provides that “[i]t is the policy of the Commission that extensions of time shall not be routinely granted.” Upon review, however, we agree with the commenters that a modest time extension will more fully allow parties to provide us with more fulsome comments that will facilitate the compilation of a complete record in this proceeding, without causing undue delay to the Commission's consideration of these issues.

4. Accordingly, it is ordered, pursuant to sections 4(i), 4(j), and 303(r) of the Communications Act, as amended, 47 U.S.C. 154(i), 154(j), and 303(r); and §§ 0.91, 0.291, 1.45, and 1.415 of the Commission's rules, 47 CFR 0.91, 0.291, 1.45, and 1.415 that the Motion for Extension of Time to File Comments and Reply Comments filed by the Ohio Department of Rehabilitation and Correction on December 6, 2013 is granted in part to the extent described herein and is otherwise denied, and the deadline for filing comments to the FNPRM is December 20, 2013 and reply comments is January 13, 2014.

Federal Communications Commission.
Lynne H. Engledow,
Assistant Division Chief, Wireline Competition Bureau.

[FR Doc. 2013-30826 Filed 12-26-13; 8:45 am]

BILLING CODE 6712-01-P